DEPARTMENT OF DEFENSE

Office of the Secretary

32 CFR Part 68

[Docket No. DOD-2009-OS-0034]

RIN 0790-AI50

Voluntary Education Programs

AGENCY: Office of the Under Secretary of Defense for Personnel and Readiness, DoD.

ACTION: Final rule.

SUMMARY: In this final rule, the Department of Defense (DoD) implements policy, assigns responsibilities, and prescribes procedures for the operation of voluntary education programs within DoD. Several of the subject areas in this final rule include: procedures for Service members participating in education programs; guidelines for establishing, maintaining, and operating voluntary education programs including, but not limited to, instructor-led courses offered on-installation and off-installation, as well as via distance learning; procedures for obtaining on-base voluntary education programs and services; minimum criteria for selecting institutions to deliver higher education programs and services on military installations; the establishment of a DoD Voluntary Education Partnership Memorandum of Understanding (MOU) between DoD and educational institutions receiving tuition assistance payments; and procedures for other education programs for Service members and their adult family members. The new requirement for a signed MOU with DoD from participating educational institutions will be effective 60 days following the publication of this final rule in the Federal Register.

DATES: This rule is effective January 7, 2013.

FOR FURTHER INFORMATION CONTACT: For specific information on the new DoD Voluntary Education Partnership MOU, go to the DoD MOU site at http://www.dodmou.com. There is a “feedback button” where questions and concerns can be emailed from Service members, education centers, and institutions. Every email received through the automated feedback button will be recorded, tracked, and resolved by the appropriate DoD official. For general information concerning DoD Voluntary Education Programs, send a written inquiry to Ms. Kerrie Tucker, at the Office of the Under Secretary of Defense (Personnel & Readiness), Military Community & Family Policy, State Liaison and Educational Opportunities, 4800 Mark Center Drive, Suite 14E08, Alexandria, Virginia 22350-2300 or email: kerrie.tucker@osd.mil.

SUPPLEMENTARY INFORMATION:

Executive Summary

This final rule implements Voluntary Education Programs for Military Service members. This rule includes educational programs that enable Service members to earn a degree on their off-duty time. Congress has held that men and women serving in the Armed Forces should have at least the same opportunity to advance academically as do civilians who remain outside the military.

Funding for Voluntary Education Programs is authorized by law and is subject to the availability of funds from each Service. Voluntary education programs include tuition assistance (TA) (per 10 U.S.C. 2007), which is administered uniformly across the Services. Subject to appropriations, each Service pays no more than $250.00 per semester-unit for tuition and fees combined. Each Service member participating in off-duty, voluntary education is eligible for up to $4,500.00, in aggregate, for each fiscal year. TA can only be used for courses offered by postsecondary institutions accredited by a national or regional accrediting body recognized by the U.S. Department of Education.

A March 2011 Government Accountability Office report on the DoD TA program recommended the Department take steps to enhance its oversight of schools receiving TA funds. As a result, a DoD Memorandum of Understanding (MOU) requirement was included in this rule, which is designated not only to improve Departmental oversight but also to account for our Service members' unique lifestyle requirements. The purpose of the DoD MOU is to establish a partnership between the Department and institutions to improve educational opportunities while protecting the integrity of each institution's core educational values. This partnership serves to ensure a quality, viable program exists that provides for our Service members to realize their educational goals, while allowing for judicious oversight of taxpayer dollars.

Public Comments

The Department of Defense published a proposed rule on August 6, 2010 (75 FR 47504-47514). Twenty six submissions were received which contained a total of 110 comments that were reviewed and considered. However, a substantial number of the 110 comments were duplicative, resulting in 35 actual comments. These 35 comments were grouped into just 9 topics and addressed below.

Comment: We received a comment which recommended the document recognize the potential for adjudications to arise, and that a long-term point of contact be specified to address adjudication; this should include, name, phone number and email address of the contact office.

Response: For tracking purposes, a “feedback button” was developed on the DoD Voluntary Education Partnership MOU Web page to specifically address questions and concerns from Service members, education centers, and institutions. The homepage for DoD Voluntary Education (http://apps.mhf.dod.mil/voled) also contains a link where personnel can register their voluntary education concerns. Every entry received through the automated feedback button will be recorded, tracked, and resolved by the appropriate DoD official. For general information concerning DoD Voluntary Education Programs, personnel can send a written inquiry to Ms. Kerrie Tucker, at the Office of the Under Secretary of Defense (Personnel & Readiness), Military Community & Family Policy, State Liaison and Educational Opportunities, 4800 Mark Center Drive, Suite 14E08, Alexandria, Virginia, 22350-2300 or email: kerrie.tucker@osd.mil.

Comment: Several commenters addressed concerns about the new requirement for schools to agree to participate in a `third party review' process that will evaluate voluntary education programs and the delivery of their educational opportunities to Service members. One commenter requested additional information concerning a waiver to this review. Since this review process will be contracted to a company outside DoD, the selected contractor will be responsible for the procedures connected with the actual review process which could include a possible waiver process. Another commenter suggested the DoD contracted `third party' evaluator(s) accompany the Distance Education and Training Committee (DETC) accreditation committees since the vast majority of DETC accredited distance education institutions are very small with small enrollments of Service members. In the long run, this may help to conserve DoD resources, give DoD a broader view of the institution, and help institutions keep their tuitions low.

Response: The comments received have been noted; however the final decision will be made by the selected DoD contractor for the complete `third party review' process.

Comment: A commenter stated that the responsibilities on page 47508: under 68.5, section (g)(2), were not in concert with the earlier section (d)(6), which states the Director of DANTES will serve “as the Executive Secretary at the Interservice Voluntary Education Board meeting convened annually to review DANTES' programs * * *” Since the DANTES Director does not serve as the Executive Secretary at the other quarterly meetings of the Interservice Voluntary Education Board, the commenter suggested section (g)(2) be rewritten as noted in (d)(6) so that the DANTES Director's Executive Secretary responsibilities do not expand beyond the annual Board meeting convened to review the DANTES mission and programs.

Response: This comment was accepted and the appropriate changes were made, which included deleting section (g)(2) and keeping section (d)(6) as is. However, the final rule lists the operational procedures relating to DANTES in section 68.6

Comment: Multiple comments were received with alternative language for the provision on tuition assistance and how it should be applied with regards to various fees as stated on page 47508, under 68.6, Procedures, section (a)(2)(ii)(D).

Response: Several recommended language alternatives were submitted and a combination statement was developed. This section now includes the following additional statement to the last sentence: “* * *are charged to all students and 100 percent refundable.”

Comment: The majority of the comments received focused on Appendix A to part 68, section 4.a. on page 47512 on the `One Single Rate to TA' and questions relating to the actual implementation, especially with schools operating in several different states.

Response: The term ‘one single rate tuition rate' pertains to the institution at a specific geographic location, not nationwide. The intent of this paragraph is to ensure that all Service members (i.e., Soldiers, Airmen, Sailors, or Marines) attending the same institution, at the same location, enrolled in the same course, be charged the same amount of tuition assistance without regard to their Service component. Additionally, if an institution has more than one mode of delivery for their courses, the ‘one single tuition rate' will be the same for all participating Service members without regard to their Service component within each mode of delivery. Institutions with more than one campus will sign one DoD Voluntary Education Partnership MOU from their home, main, or parent campus, if that home, main, or parent campus signatory is responsible of all of the campuses. A listing of the specific campus locations will be included in the DoD MOU and provided by the home, main, or parent campus signatory. However, if each campus operates as a separate business entity for purposes such as handling third-party payments, then each campus signatory will sign a separate DoD MOU.

Comment: A commenter questioned the verbiage in Appendix A to Part 68 (Paragraph 5b. (7)) concerning class cancellations. It currently states: The institution will: “Inform the installation education advisor about class cancellations for classroom-based courses on military installations no later than seven calendar days prior to the beginning of the term.” At the commenter's school, approximately 40% of the registrations occur the week before the beginning of the term and during the week the term starts. The proposed rule would result in cancelling classes that, in their experience, the majority of which would gain sufficient enrollment prior to class start. In view of the above, suggest that the installation education advisor have the flexibility to set the class cancellation policy based on the situation at that installation.

Response: Suggestion to change the verbiage for this paragraph was accepted and reads as follows: “Inform the installation education advisor about cancellations for classroom-based classes on military installations per the guidelines set forth in the separate installation MOU.”

Comment: A commenter requested clarification on the needs assessment requirement stated in section 68.6, subsection (b)(1)(v) and (b)(3)(v). As stated, it was unclear to the commenter who was ultimately responsible for the administration of the needs assessment.

Response: The comment was accepted and clarification was added to the referenced paragraphs which includes: * * *periodic needs assessments conducted by the appropriate installation official (normally the Education Services Officer) for programs provided on the installation. The installation needs assessment process is used to determine such items as staffing requirements, course offerings, size of facilities, funding, or other standards for delivery of educational programs.”

Comment: Several comments were received concerning the Service-specific addendums. One commenter submitted a correction to the Navy addendum for the address to mail an official transcript. Another commenter suggested the Navy addendum be reworded concerning the response time.

Response: The Navy address was corrected in Appendix E to Part 68, 2.c.(7) and paragraph 2.c.(5) now reads: “Institutions will strive to respond to email messages from students within a reasonable period of time—generally within two workdays, unless extenuating circumstances would justify additional time.”

Comment: Multiple narrative comments were received from the general public which contained opinions, ideas, and observations, with no concrete recommendations for valid changes. However, one commenter stated, “Recognition that any required indemnification by public educational institutions in the MOU(s) may be limited by state and governing board limits.”

Response: A new paragraph was added to section 68.6, Procedures, paragraph (a)(16) which reads: “To the extent that any provision of the standard language of the DoD Voluntary Education Partnership MOU template in appendices A, B, C, D, and E to this part, results from DoD policy that conflicts with a state law or regulation, the DASD(MCFP) may authorize amending the standard language of the DoD Voluntary Education Partnership MOU template on a case-by-case basis to the extent permissible by Federal law or regulation.”

Additional clarifications were made in the final rule based on comments received from the Institutions during the implementation process of the DoD Voluntary Education Partnership Memorandum of Understanding (MOU). DoD received several concerns and apprehensions in signing the DoD MOU from institutions of higher learning (IHLs). DoD decided to work with the public stakeholders (American Council on Education, IHLs, and key veteran and military service organizations) to address these concerns by providing additional clarification to the terminology contained in the DoD MOU. These clarifications use IHL terminology instead of DoD language in the DoD MOU and definition of terms in section 68.3.

The IHLs concerns included the following key provisions in the DoD MOU contained in Appendix A to Part 68:

• Adhering to the Servicemembers Opportunity Colleges (SOC) Consortium Principles, Criteria, and Military Student Bill of Rights (sections 3.e. and f.);

• Waiving degree residency requirements (sections 3.e. and f.);

• Recognizing, accepting, and awarding military training and education where appropriate (sections 3.e. and f.); and

• Providing an evaluated education plan to military students (section 4.c.); DoD extended the deadline for IHLs to sign the DoD MOU to 60 days following the publication of this final rule in the Federal Register to provide the IHLs with sufficient time to reassess the agreed-upon terminology. All of the concerns from the IHLs were addressed, however the DoD MOU is voluntary and as such, DoD cannot mandate that a postsecondary institution sign. If there are institutions that choose not to participate in the Military Tuition Assistance Program, the Military Services will assist Service members to find schools that have the same program and will transfer credits the Service members have already earned. They will also provide counseling to assist them in identifying additional or alternative funding.

The changes listed below are contained in the final rule and include the following main recommendations:

• The addition of paragraph (b) in section 68.1, Purpose. Although the content for this paragraph was already stated in section 68.6, Procedures, paragraph (a)(15), it was not stated in the `Purpose' of this part. In the final rule, paragraph (b) in section 68.1 of this part states the new policy, which requires a signed DoD MOU from educational institutions providing education programs through the DoD TA Program.

• To increase clarity connected with the duties relating to the Interservice Voluntary Education Board and DANTES, the operational procedures listed for both topics were moved from section 68.5, “Responsibilities” and consolidated into section 68.6, “Procedures”. Previously, the proposed rule included operational procedures for the Board and DANTES in sections 68.5 and 68.6 of this part, which caused confusion to the reader.

• DoD received recommendations to include an implementation statement for the DoD MOU since the initial effective date of January 1, 2012, has passed. DoD also received requests to provide educational institutions with sufficient time to coordinate the DoD MOU through their legal and supervisory channels. The final rule now states a signed MOU with DoD from participating educational institutions will be effective 60 days following the publication of this final rule on the Federal Register.

• The U.S. Air Force and the U.S. Navy requested to delete their indemnification paragraphs contained in Appendix B and Appendix E to Part 68, due to conflicts with state laws for all of the public institutions wanting to participate in the military TA program.

Regulatory Procedures

Executive Order 12866, “Regulatory Planning and Review” and Executive Order 13563, “Improving Regulation and Regulatory Review”

It has been certified that 32 CFR part 68 is an economically significant regulatory action. The rule has an annual effect on the economy of $100 million or more.

The rule does not:

• Adversely affect in a material way the economy; a section of the economy; productivity; competition; jobs; the environment; public health or safety; or State, local, or tribal governments or communities;

• Create a serious inconsistency or otherwise interfere with an action taken or planned by another Agency;

• Materially alter the budgetary impact of entitlements, grants, user fees, or loan programs, or the rights and obligations of recipients thereof; or

• Raise novel legal or policy issues arising out of legal mandates, the President's priorities, or the principles set forth in these Executive Orders.

Funding for Voluntary Education Programs is authorized by law and is subject to the availability of funds from each Service. Voluntary education programs include tuition assistance (per section 2007 of title 10, United States Code), which is administered uniformly across the Services. As per the National Defense Authorization Act (NDAA) FY08, each of the Services may also provide TA to activated Service members of the Selected Reserves and Individual Ready Reserve. For Fiscal Year 2010 (FY10), the Services executed approximately $800 million for Off-Duty and Voluntary Education Programs. This total amount included tuition assistance costs of approximately $542M. The Services have currently budgeted the same amount for FY11 tuition assistance costs.

Sec. 202, Pub. L. 104-4, “Unfunded Mandates Reform Act”

It has been certified that 32 CFR part 68 does not contain a Federal mandate that may result in expenditure by State, local and tribal governments, in aggregate, or by the private sector, of $100 million or more in any one year.

Public Law 96-354, “Regulatory Flexibility Act” (5 U.S.C. 601)

It has been certified that 32 CFR part 68 is not subject to the Regulatory Flexibility Act (5 U.S.C. 601) because it would not, if promulgated, have a significant economic impact on a substantial number of small entities. The rule updates policy and procedures for the voluntary education programs within DoD for Service members and their adult eligible family members. Guidance on voluntary education programs is available through the Education Centers located on military installations.

Public Law 96-511, “Paperwork Reduction Act”

It has been certified that 32 CFR part 68 does not impose reporting or recordkeeping requirements under the Paperwork Reduction Act of 1995.

Executive Order 13132, “Federalism”

It has been certified that 32 CFR part 68 does not have federalism implications, as set forth in Executive Order 13132. This rule does not have substantial direct effects on:

• The States;

• The relationship between the National Government and the States; or

• The distribution of power and responsibilities among the various levels of Government.

List of Subjects in 32 CFR Part 68

Adult education, Armed forces, Colleges and universities, Education, Educational study programs, Government contracts, Military personnel, Student aid.

Accordingly, 32 CFR part 68 is added to read as follows:

PART 68—VOLUNTARY EDUCATION PROGRAMS

Sec.
68.1 Purpose.
68.2 Applicability.
68.3 Definitions.
68.4 Policy.
68.5 Responsibilities.
68.6 Procedures.
Appendix A to Part 68—DOD Voluntary Education Partnership Memorandum of Understanding (MOU) Between DOD Office of the Under Secretary of Defense For Personnel and Readiness (USD(P&R)) and [Name of Educational Institution]
Appendix B to Part 68—Addendum for Education Services Between [Name of Educational Institution] and the U.S. Air Force
Appendix C to Part 68—Addendum for Education Services Between [Name of Educational Institution] and the U.S. Army
Appendix D to Part 68—Addendum for Education Services Between [Name of Educational Institution] and the U.S. Marine Corps
Appendix E to Part 68—Addendum for Education Services Between [Name of Educational Institution] and the U.S. Navy

Authority: 10 U.S.C. 2005, 2007.

§ 68.1 Purpose.

This part:

(a) Implements policy, assigns responsibilities, and prescribes procedures for the operation of voluntary education programs in the Department of Defense.

(b) Establishes new policy stating criteria for tuition assistance (TA) and the requirement for a memorandum of understanding (MOU) from all educational institutions providing educational programs through the DoD TA Program.

(c) Establishes the Interservice Voluntary Education Board.

§ 68.2 Applicability.

This part applies to the Office of the Secretary of Defense, the Military Departments, the Office of the Chairman of the Joint Chiefs of Staff and the Joint Staff, the Combatant Commands, the Office of the Inspector General of the Department of Defense, the Defense Agencies, the DoD Field Activities, and all other organizational entities within the Department of Defense (hereafter referred to collectively as the “DoD Components”).

§ 68.3 Definitions.

The following terms and their definitions are for the purpose of this part:

Academic. Having to do with general or liberal arts education, rather than technical or vocational.

Academic skills. Competencies in English, reading, writing, speaking, mathematics, and computer skills that are essential to successful job performance and new learning. Also referred to as functional or basic skills.

Active Guard and Reserve (AGR). National Guard or Reserve members of the Selected Reserve (SELRES) who are ordered to active duty or full-time National Guard duty for a period of 180 consecutive days or more for the purpose of organizing, administering, recruiting, instructing, or training the Reserve Component units or duties as prescribed in 10 U.S.C. 12310. All AGR members must be assigned against an authorized mobilization position in the unit they support. (Includes Navy full-time support (FTS), Marine Corps Active Reserve (ARs), and Coast Guard Reserve Personnel Administrators (RPAs)).

American Council on Education. The major coordinating body for all of the Nation's higher education institutions. Seeks to provide leadership and a unifying voice on key higher education issues and publishes the “Guide to the Evaluation of Educational Experiences in the Armed Services.”

Annual TA Ceiling. The maximum dollar amount authorized for each Service member for TA per fiscal year. Each Service member participating in off-duty voluntary education programs shall be entitled to the full amount authorized each fiscal year in accordance with DoD policy.

Army/American Council on Education Registry Transcript System. An automated official document generated by the Army/ACE Registry Transcript System which can be sent directly from the Army American Council on Education Registry Transcript System Center to the educational institution to articulate a soldier's military experience and training and the American Council on Education-recommended college credit for this training and experience.

Degree requirements. A planning document provided by the educational institution that outlines general required courses to complete an educational program. The planning document presents the general education and major-related course requirements, degree competencies (e.g., foreign language, computer literacy), and elective course options that students may choose for specified program of study.

Education advisor. A professionally qualified, subject matter expert or program manager in the education field at the installation education center. The following position titles may also be used for an education advisor: Education Services Specialist, Education Services Officer (ESO), Voluntary Education Director, Navy College Office Director, and Education and Training Section (ETS) Chief.

Education center. A military installation facility, including office space, classrooms, laboratories, and other features, that is staffed with professionally qualified personnel and to conduct voluntary education programs. For Navy, this is termed the “Navy College Office.”

Educational plan. A planning document provided by the educational institution that outlines general degree requirements for graduation. Typically an educational plan presents the general education and major-related course requirements, degree competencies (e.g., foreign language, computer literacy), and elective course options that students may choose for a specified program of study. This document is required from the institution upon the successful completion of six semester hours by the Service member at the institution.

Eligible adult family member. The adult family member, over the age of 18, of an active duty, Reserve, National Guardsman, or DoD civilian with a valid DoD identification card.

Evaluated educational plan. An official academic document provided by the educational institution that:

(1) Articulates all degree requirements required for degree completion or in the case of a non-degree program, all educational requirements for completion of the program;

(2) Identifies all courses required for graduation in the individual's intended academic discipline and level of postsecondary study; and

(3) Includes an evaluation of all successfully completed prior coursework, and evaluated credit for military training and experience, and other credit sources applied to the institutional degree requirements. For participating SOC Degree Network System institutions, SOC Army Degrees, SOC Navy Degrees, SOC Marine Corps Degrees, or SOC Coast Guard Degrees Student Agreement serves as this documented educational plan.

Individual Ready Reserve (IRR). A manpower pool consisting principally of individuals who have had training, have previously served in the Active Component or in the SELRES, and have some period of their military service obligation or other contractual obligation remaining. Some individuals volunteer to remain in the IRR beyond their military service or contractual obligation and participate in programs providing a variety of professional assignments and opportunities for earning retirement points and military benefits.

Military Voluntary Education Review (MVER). A third-party evaluation of voluntary education programs covered by the DoD Voluntary Education Partnership MOU.

Needs assessment. A process used to determine the staffing requirements, course offerings, size of facilities, funding, or other standards for delivery of educational programs.

Off-duty. Time when the Service member is not scheduled to perform official duties.

Ready Reserve. Composed of military members of the Reserve and National Guard, organized in units or as individuals, or both, and liable for involuntary order to active duty in time of war or national emergency pursuant to 10 U.S.C. 12310 and 12301 and 14 U.S.C. 712 in the case of members of the Coast Guard Reserve. The Ready Reserve consists of the SELRES, the IRR, and the Inactive National Guard.

Sailor/Marine American Council on Education Registry Transcript System. An automated official document generated by the Sailor/Marine American Council on Education Registry Transcript System, which can be sent directly from the Sailor/Marine ACE Registry Transcript System Operations Center to the educational institution to articulate a Sailor's or Marine's military experience and training and the American Council on Education recommended college credit for this training and experience.

SELRES or Selected Reserve. Those units and individuals within the Ready Reserve designated by their respective Service as essential to wartime missions and must therefore maintain a higher priority over all other Reserves. The SELRES includes Reserve unit members (including members in the training pipeline and drilling Reservists in units), Individual Mobilization Augmentees, and Active Guard/Reserve members.

Semester-hour TA Cap. The maximum dollar amount authorized for TA per semester-hour credit. A Service shall pay no more than the established DoD cap.

SOC or Servicemembers Opportunity Colleges. A consortium of over 1,800 colleges and universities, created in 1972 that seeks to enhance the educational opportunities to Service members who may have difficulty in completing college programs due to frequent military moves.

TA or tuition assistance. Funds provided by the Military Services or U.S. Coast Guard to pay a percentage of the charges of an educational institution for the tuition of an active duty, Reserve or National Guard member of the Military Services, or Coast Guard member, enrolled in approved courses of study during off-duty time.

Top-Up. An option, under chapter 30 of the Montgomery G.I. Bill and Post-9/11 G.I. Bill, that enables active duty Service members to receive from the Department of Veterans Affairs those tuition and fee costs that exceed the amount of TA provided to the Service member by his or her Service.

Troops-to-Teachers program (TTT). A Department of Education program administered by the DoD to help recruit quality teachers for schools that serve low-income families throughout America. TTT helps relieve teacher shortages, especially in math, science, special education, and other high-needs subject areas, and assists military personnel in making successful transitions to second careers in teaching.

Voluntary education programs. Continuing, adult, or postsecondary education programs of study that Service members elect to participate in during their off-duty time, and that are available to other members of the military community.

§ 68.4 Policy.

It is DoD policy, consistent with DoD Directive 1322.08E, that:

(a) Members of the Military Services serving on active duty or members of the Selected Reserve (SELRES) shall be afforded the opportunity to complete their high school education through a state-funded or Service component sponsored program, earn an equivalency diploma, improve their academic skills or level of literacy, enroll in career and technical education schools, receive college credit for military training and experience in accordance with the American Council on Education's “Guide to the Evaluation of Educational Experiences in the Armed Services” (available at http://www.militaryguides.acenet.edu/), take tests to earn college credit, and enroll in postsecondary education programs that lead to industry-recognized credentials, and undergraduate and graduate degrees.

(b) Subject to the availability of funds, Service members' costs to participate in the DoD Voluntary Education Program as authorized by Section 2007 of title 10, United States Code (U.S.C.), shall be reduced through financial support, including tuition assistance that is administered uniformly across the Military Services.

(c) Information and counseling about voluntary education programs shall be readily available and easy to access so that Service members are encouraged to make maximum use of the educational opportunities available.

(d) Institutions accredited by a national or regional accrediting agency recognized by the U.S. Department of Education shall be encouraged to provide degree programs on military installations and the Military Services shall facilitate their operations on the installations.

(e) To the extent that space is otherwise available, eligible adult family members of Service members, DoD civilian employees and their eligible adult family members, and military retirees may enroll in postsecondary education programs offered on a military installation at no cost to the individual Service TA programs.

§ 68.5 Responsibilities.

(a) Under Secretary of Defense for Personnel and Readiness (USD(P&R)). The USD(P&R) shall:

(1) Monitor implementation of and ensure compliance with this part and DoD Directive 1322.08E (see http://www.dtic.mil/whs/directives/corres/pdf/132208p.pdf).

(2) Establish rates of tuition assistance (TA) to ensure uniformity across the Military Services as required by DoD Directive 1322.08E, DoD Instruction (DoDI) 1322.25 (see http://www.dtic.mil/whs/directives/corres/pdf/132225p.pdf), and this part.

(3) Establish, under the provisions of DoDI 5105.18, the Interservice Voluntary Education Board, which will be composed of full-time or permanent part-time federal employees.

(4) Maintain a program to assess the effectiveness of the voluntary education programs.

(5) Issue written guidance annually for the funding and operation of the Defense Activity for Non-Traditional Education Support (DANTES).

(b) Assistant Secretary of Defense for Readiness and Force Management (ASD(R&FM)). The ASD(R&FM), under the authority, direction, and control of the USD(P&R) shall:

(1) Provide administrative assistance to the Deputy Assistant Secretary of Defense for Military Community and Family Policy (DASD(MCFP)), in support of the voluntary education programs.

(2) Respond to matters that are referred to by the DASD(MCFP).

(c) Deputy Assistant Secretary of Defense for Military Community and Family Policy (DASD(MCFP)). The DASD(MCFP), under the authority, direction, and control of the ASD(R&FM), shall:

(1) Monitor compliance with this part and DoD Directive 1322.08E and related issuances by personnel under his or her authority, direction, and control.

(2) Oversee the DoD Voluntary Education Program.

(3) Provide ongoing and routine clarifying guidance for the DoD Voluntary Education Program.

(4) Provide representatives to professional education and cross-agency panels addressing issues impacting the DoD Voluntary Education Program, its regulatory scope, clientele, and partners.

(5) Designate the Voluntary Education Chief within the Office of the DASD(MCFP) as the Chair of the Interservice Voluntary Education Board and oversee implementation of Board and DANTES procedures as detailed in § 68.6 of this part.

(d) Assistant Secretary of Defense for Reserve Affairs (ASD(RA)). The ASD(RA), under the authority, direction, and control of the USD(P&R), shall:

(1) Monitor compliance with this part and DoD Directive 1322.08E and related issuances by personnel under his or her authority, direction, and control.

(2) Appoint a representative to serve on the Interservice Voluntary Education Board.

(3) Arrange the assignment of, on a rotating basis, a field grade officer, to serve as the Reserve Component Advisor to the Voluntary Education Chief within the Office of DASD(MCFP).

(e) Secretaries of the Military Departments. The Secretaries of the Military Departments shall:

(1) Monitor compliance with this part and DoD Directive 1322.08E and related issuances.

(2) Establish, maintain, coordinate, and operate voluntary education programs that encompass a broad range of educational experiences including, but not limited to, academic skills development, high school completion programs, career and technical education programs, and programs leading to the award of industry-recognized credentials, and undergraduate and graduate degrees.

(3) Require that sufficient funding is available to provide Service members with TA support consistent with the requirements in section 68.6 and appendices A, B, C, D, and E to this part.

(4) Require that educational counseling is available to Service members so they will have sufficient information and guidance to plan an appropriate program of study.

(5) Require that voluntary education programs participate in the established DoD third-party review process (i.e., MVER).

(i) The third-party review assesses the quality, delivery, and coordination of the voluntary education programs provided to military personnel on the installation, in the community, and via distance learning (DL). It assists in improving the quality of the delivery of these programs through recommendations to institutions, installations, and the Military Services.

(ii) Waivers to the third-party review must be submitted to and approved by the Voluntary Education Chief within the Office of the DASD(MCFP).

(6) Provide one representative to serve on the Interservice Voluntary Education Board responsible for their Services' voluntary education policy from each of the following Military Services: Army, Navy, Air Force, and Marine Corps. Each Service representative's membership will be on a permanent basis and changed only when their voluntary education policy position is changed.

(7) Assign, on a rotating basis, a senior enlisted Service member in pay grade E-9 to serve as the DANTES enlisted advisor.

(8) Require that military test control officers and test centers comply with the guidance and procedures published in the DANTES Examination Program Handbook, available at http://www.dantes.doded.mil/Sub%20Pages/Exams/Docs/DEPH_part1.pdf.

(9) Require that personnel who provide counseling, advice, and program management related to voluntary education programs have access to the DoD Voluntary Education homepage and other Web sites so they can provide current and accurate information to Service members.

(10) Provide opportunities for Service members to access the Internet, where available, to enroll in and complete postsecondary courses that are part of their approved educational plan leading to an educational goal.

(f) Secretary of the Navy. The Secretary of the Navy, as the DoD Executive Agent (DoD EA) for DANTES pursuant to DoD Directive 1322.08E and DoD Directive 5101.1, and in addition to the responsibilities in § 68.5 of this part of this section, shall:

(1) Transmit annual guidance issued by the USD(P&R) to DANTES.

(2) Require that the Director, DANTES, provide updates on DANTES plans, operations, and activities to the USD(P&R).

(3) Through its civilian personnel system, advertise the position of Director, DANTES, when the position is vacated and appoint the Director, DANTES, in accordance with the procedures outlined in § 68.6.

§ 68.6 Procedures.

(a) TA for Service members participating in education programs. (1) TA shall be available for Service members participating in high school completion and approved courses from accredited undergraduate or graduate education programs or institutions. Approved courses are those that are part of an identified course of study leading to a postsecondary certificate or degree and non-degree oriented language courses integral to the Defense Language Transformation Roadmap (available at http://www.defense.gov/news/Mar2005/d20050330roadmap.pdf).

(i) Use of TA for non-degree oriented language courses is limited to those published by the Under Secretary of Defense (P&R) on the DoD Strategic Language List.

(ii) Dominant-in-the-force languages and languages deemed by DoD as already having sufficient strategic capacity authorized will not be funded under section 2007, except for assignments outside the continental United States.

(2) TA shall be applied as follows:

(i) For 100 percent of the cost of approved high school completion programs for Service members who have not been awarded a high school or equivalency diploma and who are enrolled in such programs.

(ii) In support of the voluntary education and training of active duty Service members during their off-duty periods, each Military Service shall pay all or a portion, as specified in paragraphs (a)(2)(ii)(A) through (F) of this section, of the charges of an educational institution for education and training during the member's off-duty periods.

(A) When an institution's charges are up to or less than the limit of per semester-hour of credit or its equivalent, as specified in DoDI 1322.25, the responsible Service shall pay the entire amount charged by the institution. In computing credit equivalency, the following conversions shall apply: 1 quarter-hour credit = ⅔ semester-hour credit; and 45 contact hours shall be considered equivalent to one semester-hour credit when neither semester- nor quarter-hours are specified for the education or training for which the Service member is enrolled.

(B) When an institution's charges exceed the per semester-hour of credit, or its equivalent limit as specified in DoDI 1322.25,the responsible Service shall pay no more than the specified limit per semester-unit for tuition and fees combined.

(C) Each Service member participating in off-duty, voluntary education shall be allowed up to the fiscal year limit amount specified in DoDI 1322.25.

(D) Covered charges include those that are submitted to the Service by the educational institution for tuition, instructional fees, laboratory fees, computer fees, and other fees directly related to the specific course enrollment of that member in that educational institution, are charged to all students, and 100 percent refundable.

(E) TA funds are not to be used for the purchase of books. Additionally, institutional education revenue generated from military TA funds cannot be used to support textbook grants or scholarships.

(F) To be eligible to receive TA, a Service member must meet the minimum requirement of successfully completing basic training. Reserve Component members are exempt from the requirement to first attend basic training before authorized to receive TA. Additional, respective Service requirements must be met to include training qualification, unit assignment, and time in service criteria.

(iii) The TA rate, credit cap, and annual per capita ceiling, shall be reviewed periodically in consideration of inflation and other effects, and shall be applicable uniformly whether instruction is delivered traditionally in-the-classroom or through distance education. Rates of TA other than as identified in paragraphs (a)(2)(ii)(A) through (F) of this section are not authorized.

(3) TA is available to a commissioned officer on active duty, other than an officer serving in the Ready Reserves (addressed in paragraphs (4)(i) and (5)(i) of this section), only if the officer agrees to remain on active duty, for a period of at least two years after the completion of the education or training for which TA was paid (see 10 U.S.C. 2007).

(4) The Secretary of the Military Department concerned may only make TA available to a member of the SELRES, pursuant to 10 U.S.C. 2007, under the following conditions:

(i) In the case of a commissioned officer, the officer must agree to remain a member of the SELRES for at least four years after completion of the education or training for which TA is paid.

(ii) In the case of an enlisted member, the Secretary concerned may require the member of the SELRES to enter into an agreement to remain a member of the SELRES for up to four years after completion of the education or training for which TA is paid.

(5) The Secretary of the Military Department concerned may only make TA available to a member of the IRR who has a military occupational specialty designated by the Secretary concerned pursuant to 10 U.S.C. 2007 and only under the following conditions:

(i) In the case of a commissioned officer, the officer must agree to remain a member of the SELRES or IRR for at least four years after completion of the education or training for which TA was paid.

(ii) In the case of an enlisted member, the Secretary concerned may require the member of the IRR to enter into an agreement to remain a member of the IRR for up to four years after completion of the education or training for which TA is paid.

(6) Members performing Active Guard and Reserve (AGR) duty under either 10 U.S.C. 12310 or active duty under 14 U.S.C. 712 are eligible for TA under paragraph (a)(4) of this section.

(7) The Secretary of the Military Department concerned may make TA available to National Guard members in accordance with paragraph (a)(4), except for National Guard members assigned to the Inactive National Guard.

(8) Reimbursement and repayment requirements:

(i) If a commissioned officer or member of the RR does not fulfill a specified Service obligation as required by section 2007 of 10 U.S.C., they are subject to the repayment provisions of section 303a(e) of title 37 U.S.C.

(ii) For other conditions pursuant to 10 U.S.C. 2005, the Secretary concerned may require a Service member to enter into a written agreement when providing advanced education assistance. If the Service member does not fulfill any terms or conditions as prescribed by the Secretary concerned, the Service member will be subject to the repayment provisions of 37 U.S.C. 303a(e).

(iii) Pursuant to 37 U.S.C. 303a(e), the Secretary concerned may establish procedures for determining the amount of the repayment required from the Service member and the circumstances under which an exception to the required repayment may be granted.

(iv) Reimbursement will be required from the Service member if a successful course completion is not obtained. For the purpose of reimbursement, a successful course completion is defined as a grade of “D” or higher for undergraduate courses, a “C” or higher for graduate courses and a “Pass” for “Pass/Fail” grades. The Secretary of the Military Department will establish recoupment processes for unsuccessful completion of courses.

(9) Students using TA must maintain a cumulative grade point average (GPA) of 2.0 or higher after completing 15 semester hours, or equivalent, in undergraduate studies, or a GPA of 3.0 or higher in graduate studies on a 4.0 grading scale.

(10) TA shall not be authorized for any course for which a Service member receives reimbursement in whole or in part from any other Federal source when the payment would constitute a duplication of benefits. Academic institutions have the responsibility to notify the Service if there is any duplication of benefits, determine the amount of credit that should be returned, and credit the amount back to the Service. The use of funds related to veterans' benefits to supplement TA received by active duty and Reserve component personnel is authorized in accordance with applicable U.S. Department of Veterans Affairs guidelines.

(11) Pell Grants may be used in conjunction with TA assistance, including their use to pay that portion of tuition costs not covered by TA.

(12) TA shall be provided for courses provided by institutions awarding degrees based on demonstrated competency, if:

(i) Competency rates are equated to semester or quarter units of credit, and

(ii) The institution publishes traditional grade correlations with “Pass/Fail” grades, and

(iii) The institution provides a breakdown by course equivalent for Service members.

(13) Enrollment in a professional practicum integral to these types of programs is also authorized. However, normal DoD TA caps and ceilings apply; the cost of expanded levels of enrollment over and above these enrollment levels and normal caps and ceilings must be borne by the student.

(14) When used for postsecondary training or education, TA shall be provided only for courses offered by postsecondary institutions accredited by a national or regional accrediting body recognized by the U.S. Department of Education.

(15) Sixty days following the publication of this part in the Federal Register, to receive TA, an institution's home campus must be a signatory of the DoD Voluntary Education Partnership Memorandum of Understanding (MOU) in appendices A, B, C, D, and E to this part, and the MOU must be posted on the DoD Web site. One DoD Voluntary Education Partnership MOU with the institution's home campus will cover any program offered by the institution, regardless of location.

(16) To the extent that any provision of the standard language of the DoD Voluntary Education Partnership MOU template in appendices A, B, C, D, and E to this part, results from DoD policy that conflicts with a state law or regulation, the DASD(MCFP) may authorize amending the standard language of the DoD Voluntary Education Partnership MOU template on a case-by-case basis to the extent permissible by Federal law or regulation.

(b) Guidelines for establishing, maintaining, and operating voluntary education programs. (1) Education programs established under this part by each Military Service shall:

(i) Provide for the academic, technical, intellectual, personal, and professional development of Service members, thereby contributing to the readiness of the Military Services and the quality of life of Service members and their families.

(ii) Increase Service members' opportunities for advancement and leadership by reinforcing their academic skills and occupational competencies with new skills and knowledge.

(iii) Lead to a credential, such as a high school diploma, certificate, or college degree, signifying satisfactory completion of the educational program.

(iv) Include an academic skills program, which allows personnel to upgrade their reading, writing, computation, and communication abilities in support of academic skills and military occupations and careers. Academic skills programs may include English as a Second Language and basic science.

(v) Include programs and college offerings that support findings from periodic needs assessments conducted by the appropriate installation official (normally the Education Services Officer) for programs provided on the installation. The installation needs assessment process is used to determine such items as staffing requirements, course offerings, size of facilities, funding, or other standards for delivery of educational programs. Duplication of course offerings on an installation should be avoided. However, the availability of similar courses through correspondence or electronic delivery shall not be considered duplication.

(vi) Be described in a publication or on-line source that includes on-installation educational programs, programs available at nearby installations, and colleges and universities nearby the installation.

(2) Each Military Service, in cooperation with community educational service providers, shall provide support essential to operating effective education programs. This support includes:

(i) Adequate funds for program implementation, administration, and TA.

(ii) Adequately trained staff to determine program needs, counsel students, provide testing services, and procure educational programs and services.

(iii) Adequate and appropriate classroom, laboratory, and office facilities and equipment, including computers.

(iv) Access to telecommunications networks, computers, and libraries at times convenient to active duty personnel.

(3) In operating its programs, each Military Service shall:

(i) Provide to newly assigned personnel, as part of their orientation to each new installation or unit of assignment for Reserve component personnel, information about voluntary education programs available at that installation, unit, or State for RC personnel.

(ii) Maintain participants' educational records showing education accomplishments and educational goals.

(iii) Provide for the continuing professional development of their education services staff, including the participation of field staff in professional, as well as Service-sponsored, conferences, symposiums, and workshops.

(iv) Provide educational services, including TA counseling, academic advice and testing to their personnel and to personnel of other Services (including the U.S. Coast Guard when operating as a service in the Navy) who are assigned for duty at installations of the host Service.

(v) Continually assess the state of its voluntary education programs and periodically conduct a formal needs assessment by the appropriate installation official (normally the Education Services Officer) to ensure that the best possible programs are available to their members at each installation or in their State or area command for RC personnel. It is essential that a formal needs assessment be conducted if there is a significant change in the demographic profile of the installation population.

(4) Eligible adult family members of Service members, DoD civilian employees and their eligible adult family members, and military retirees may participate in installation postsecondary education programs on a space-available basis at no cost to the individual Service TA programs.

(5) At locations where an educational program that is offered on an installation is not otherwise conveniently available outside the installation, civilians who are not directly employed by the DoD or other Federal agencies, and who are not eligible adult family members of DoD personnel, may be allowed to participate in installation educational programs. While such participation contributes to positive community relations, participation must be on a student-funded, space-available basis at no cost to the individual Service TA programs, after the registration of Service members, DoD civilian employees, eligible adult family members, and military retirees. Additionally, a review of these potential participants by the relevant installation ethics counselor may be required as part of the installation commander's access requirements if the educational institution has been approved to operate on the base. Participation may also be subject to the terms of status-of-forces or other regulating agreements.

(6) Education centers and Navy College offices shall maintain liaison with appropriate State planning and approving agencies and coordinating councils to ensure that planning agencies for continuing, adult, or postsecondary education are aware of the educational needs of military personnel located within their jurisdiction.

(7) In supporting a high school completion program, each Military Service shall:

(i) Ensure that all Service members with less than a high school education have the opportunity to attain a high school diploma or its equivalent.

(ii) Ensure that neither a Military Service nor DANTES issues a certificate or similar document to Service members based on performance on high school equivalency tests. Military Services shall recognize attainment of high school completion or equivalency only after a State- or territory-approved agency has awarded the appropriate credential.

(iii) Pay 100 percent of the cost of high school equivalency instruction or proficiency testing and credentialing for Service members.

(iv) Ensure that Service sponsored high school diploma programs are delivered by institutions that are accredited by a regional accrediting body or recognized by a State's secondary school authority.

(c) Procedures for obtaining voluntary education programs and services on military installations. (1) Educational institutions interested in providing education and training opportunities on a military installation will provide their proposals to the installation education advisor, who will review and analyze these proposals on behalf of the installation commander.

(2) To obtain viable educational programs on a military installation, the installation education advisor shall communicate the installation's educational needs to a wide variety of potential providers.

(3) A military installation seeking to obtain educational programs shall provide to interested providers:

(i) The level of instruction desired and specific degree programs being sought.

(ii) A demographic profile of the installation population and probable volume of participation in the program.

(iii) Facilities (availability of space), equipment, supporting services that the installation will provide without charge, and level of security that can be expected.

(iv) A copy of this part.

(v) Special requirements such as:

(A) Format (e.g., distance, evening, or weekend classes), independent study, short seminar, or other mode of delivery of instruction.

(B) Unique scheduling problems related to the operational mission of the installation.

(C) Any installation restrictions, limitations, or special considerations relevant to using an alternate delivery system (DL, etc.).

(D) Available computer hardware and supporting equipment.

(E) Electrical, satellite, and network capabilities at the site.

(5) A Military Service considering an alternate delivery provider shall ascertain:

(i) If students will need special training or orientation for special courses or programs or for alternate delivery methods (DL, etc.) and, if so, how students will receive such orientation.

(ii) What electronic equipment and technical support are necessary at local sites.

(iii) If it will be necessary to have on-site facilitators.

(6) In evaluating proposals, potential providers must meet, at a minimum, the following criteria:

(i) Programs satisfy objectives defined by the most recent needs assessment.

(ii) Programs, courses, and completion requirements are the same as those at the provider's main administrative and academic campus.

(iii) The institution granting undergraduate academic credit must adhere to the Servicemembers Opportunity Colleges (SOC) Consortium Principles and Criteria (available at http://www.soc.aascu.org/socconsortium/PublicationsSOC.html) regarding the transferability of credit and the awarding of credit for military training and experience.

(iv) The provider is prepared to offer academic counseling and flexibility in accommodating special military schedules.

(v) Institutions agree to sign the DoD Voluntary Education Partnership MOU.

(7) In evaluating proposals, potential alternative delivery providers must meet, at a minimum, the following additional criteria:

(i) Documentation shows that courses offered using the alternative delivery mode have been used successfully for at least two years.

(ii) The program and delivery method address the needs of the population to be served.

(iii) Support systems exist to back up the delivery method.

(iv) Institutions agree to sign the DoD Voluntary Education Partnership MOU.

(8) In establishing education programs on military installations, appropriate U.S. Government officials shall seek favorable tuition rates, student services, and instructional support from providers.

(d) Minimum criteria for selecting institutions to deliver higher education programs and services on military installations. To be selected, institutions must:

(1) Be chartered or licensed by a State government or the Federal Government, and have State approval for the use of veterans' educational benefits for the courses to be offered.

(2) Be accredited by a national or regional accrediting agency recognized by the U.S. Department of Education.

(3) Conduct programs only from among those offered or authorized by the main administrative and academic office in accordance with standard procedures for authorization of degree programs by the institution.

(4) Ensure main administrative and academic office approval in faculty selection, assignment, and orientation; and participation in monitoring and evaluation of programs. Adjunct or part-time faculty shall possess comparable qualifications as full-time permanent faculty members.

(5) Conduct on-installation courses that carry identical credit values, represent the same content and experience, and use the same student evaluation procedures as courses offered through the main administrative and academic campus.

(6) Maintain the same admission and graduation standards that exist for the same programs at the main administrative and academic office, and include credits from courses taken off-campus in establishing academic residency to meet degree requirements.

(7) Provide library and other reference and research resources, in either print or electronic format, that are appropriate and necessary to support course offerings.

(8) Establish procedures to maintain regular communication between central institutional academic leadership and administrators and off-campus representatives and faculty. (Any institution's proposal must specify these procedures.)

(9) Provide students with regular and accessible counseling services either electronically or in-person.

(10) Charge tuition and fees that are not more than those charged to nonmilitary students.

(11) Have established policies for awarding credit for military training by examinations, experiential learning, and courses completed using modes of delivery other than instructor-delivered, on-site classroom instruction.

(e) Interservice Voluntary Education Board. Under the authority, direction, and control of the Voluntary Education Chief within the Office of the DASD(MCFP), the Interservice Voluntary Education Board is composed of full-time or permanent part-time employees of DoD or military members, and consists of one representative responsible for policy from the Office of the ASD(RA), and one representative responsible for policy each from the Army, Navy, Air Force, and Marine Corps. The Director, DANTES, shall serve as an ex-officio member. Meeting quarterly, the Board shall:

(1) Provide a forum for the exchange of information and discussion of issues related to voluntary education programs.

(2) Develop recommendations for changes in policies and procedures.

(3) Develop recommendations for DANTES' activities and operations that support voluntary education programs.

(4) Review and prioritize DANTES activities that support DoD voluntary education programs, to include budget execution and recommend execution year adjustments.

(5) Develop recommended policy and program guidance for DANTES for the Five-Year Defense Plan.

(f) DANTES. (1) Guidance and recommendations for DANTES shall be developed with the advice of the Interservice Voluntary Education Board.

(2) The selection and rating of the Director, DANTES shall be as follows:

(i) The DASD(MCFP) will convene and chair the search committee responsible for replacing the Director, DANTES, when the position is vacated. At the request of the USD(P&R), the Secretaries of the Military Departments will provide a senior manager to sit on the search committee. The committee will recommend the best qualified candidate to the Secretary of the Navy, as the DoD EA for DANTES, for possible appointment as the Director, DANTES.

(ii) The DoD EA for DANTES will designate the rater of the Director, DANTES. The Director, State Liaison and Educational Opportunity within the Office of the USD(P&R), MCFP, will provide input to the DoD EA designated rater concerning the performance of the Director, DANTES.

(3) DANTES shall:

(i) Develop, update, maintain and generate a registry of, and required reports pertaining to, MOUs of institutions approved to receive military TA for traditional and DL programs and courses.

(ii) Support the Service voluntary education programs by executing the program outlined in this part and the annual USD(P&R) guidance.

(iii) Provide execution information to the Interservice Voluntary Education Board quarterly and provide information required to assist with the program objective memorandum development as requested by the Board.

(iv) Support DoD off-duty, voluntary education programs and conduct special projects and developmental activities in support of education-related DoD functions.

(v) Assist the Military Services in providing high-quality and valuable educational opportunities for Service members, their eligible adult family members, and DoD personnel, and assist personnel in achieving professional and personal educational objectives. This role includes the consolidated management of programs that prevent duplication of effort among the Services. Through its activities, DANTES supports DoD recruitment, retention, and the transition efforts.

(vi) Assume responsibilities and functions that include:

(A) Managing and facilitating the delivery of a wide variety of examinations including the General Equivalency Diploma test, college admissions, credit-by-examination programs, and an extensive number of certification examinations.

(B) Upon request, issuing transcripts for the United States Armed Forces Institute and the examination and certification programs.

(C) Managing the contract through which former DoD Dependents Schools students can obtain copies of archived transcripts.

(D) Managing the contract and functions related to the evaluation of educational experiences in the Military Services that are covered by the contract.

(E) Providing or developing and distributing educational materials, reference books, counseling publications, educational software, and key educational resource information to DoD, the Military Services, and the installations.

(F) Managing the SOC program contract and related functions.

(G) Managing the DoD contract that provides for periodic third-party reviews of DoD voluntary education programs (i.e., Military Voluntary Education Review (MVER)).

(H) Managing the voluntary education programs for the Voluntary Education Management Information System, which includes gathering, collating, and verifying participation and cost data from the Services. Providing requisite consolidated reports to USD(P&R), pursuant DoD Instruction 1322.9 (see http://www.dtic.mil/whs/directives/corres/pdf/132209p.pdf).

(I) Establishing, maintaining, and updating systems and processes to administer, track, process updates to, and generate reports from the centrally managed DoD Voluntary Education Partnership Memorandums of Understanding (MOUs) between DoD and institutions offering coursework to military personnel and their eligible adult family members, as specified in appendices A, B, C, D, and E to this part.

(J) Managing the DoD independent study catalog and its support systems, as required.

(K) Negotiating, administering, and coordinating contracts for DoD Worldwide Education Symposiums in support of and in conjunction with the Interservice Voluntary Education Board.

(L) Establishing, refining, updating, and maintaining a DoD voluntary education presence on the Internet. Maintaining necessary infrastructure to ensure that information on the Internet is always current and available to leadership, agency personnel, the public, and others.

(M) Administering the TTT program in accordance with the TTT MOU negotiated by DoD with the Department of Education.¹

¹ For copies of this MOU or information on the Troops-to-Teachers Program, email: ttt@navy.mil or call 1-800-231-6242.

(N) Monitoring new technological developments, providing reports, cost analyses, and recommendations on educational innovations, and conducting special projects requested by the Department of Defense and the Services, approved by the Interservice Voluntary Education Board, and as reflected and approved in DANTES' annual policy guidance.

(O) Conducting staff development training on DANTES' policies, procedures, and practices related to voluntary education testing programs, and providing additional training as requested by the Office of the Secretary of Defense and the Services.

(P) Serving as the Defense Media Activity's point of contact for information on DANTES programs for military personnel.

(Q) Providing support, as requested, to DoD and Service Quality of Life and Transition support programs.

(R) Providing other support in mission areas as directed by the USD(P&R) and the DASD(MCFP).

(vii) Maintain liaison with education services officials of the Military Services, and appropriate Federal and State agencies and educational associations, in matters related to the DANTES mission and assigned functions.

(viii) Serve on panels and working groups designated by the DASD(MCFP).

(ix) Serve as the Executive Secretary at the Interservice Voluntary Education Board meeting convened annually to review DANTES programs and to develop recommendations for inclusion in annual policy guidance for DANTES. In this role, the Director, DANTES, shall coordinate the meeting, prepare the agenda, review and analyze DANTES programs and initiatives outlined in the prior year's operational plan, and provide minutes after the meeting.

(x) Maintain the repository for the DoD Voluntary Education Partnership MOU between USD(P&R) and partner institutions, to include Service-specific addendums. DANTES shall:

(A) Administer the system that stores the repository of the MOUs per guidance from USD(P&R).

(B) Create and maintain a database for all signed documents.

(C) Publish an Internet-based list of all institutions that have signed partnership agreements.

(xi) Provide data analyses and generate reports required by DoD and the Interservice Voluntary Education Board as needed.

Appendix A to Part 68—DOD Voluntary Education Partnership Memorandum of Understanding (MOU) Between DoD Office of the Under Secretary of Defense for Personnel and Readiness (USD(P&R)) and [Name of Educational Institution]

1. Preamble.

a. Providing access to quality postsecondary education opportunities is a strategic investment that enhances the U.S. Service member's ability to support mission accomplishment and successfully return to civilian life. A forward-leaning, lifelong learning environment is fundamental to the maintenance of a mentally powerful and adaptive leadership-ready force. Today's fast-paced and highly mobile environment, where frequent deployments and mobilizations are required to support the Nation's policies and objectives, requires DoD to sponsor postsecondary educational programs using a variety of learning modalities that include instructor-led courses offered both on- and off-installation, as well as distance learning options. All are designed to support the professional and personal development and progress of the Service members and our DoD civilian workforce.

b. Making these postsecondary programs available to the military community as a whole further provides Service members, their eligible adult family members, DoD civilian employees, and military retirees ways to advance their personal education and career aspirations and prepares them for future career and technical pursuits, both inside and outside of DoD. This helps strengthen the Nation by producing a well-educated citizenry and ensures the availability of a significant quality-of-life asset that enhances recruitment and retention efforts in an all-volunteer force.

2. Purpose.

a. This MOU articulates the commitment and agreement educational institutions provide to DoD by accepting funds via each Service's tuition assistance (TA) program in exchange for education services.

b. This MOU is not an obligation of funds, guarantee of program enrollments by DoD personnel, their eligible adult family members, DoD civilian employees, and retirees in an educational institution's academic programs, or a guarantee for installation access.

c. This MOU covers courses delivered by educational institutions through all modalities. These include, but are not limited to, classroom instruction, distance education (i.e., web-based, CD-ROM, or multimedia) and correspondence courses.

d. This MOU includes high school programs, academic skills programs, and adult education programs for military personnel and their eligible adult family members.

e. This MOU articulates regulatory and governing directives and instructions:

(1) Eligibility of DoD recipients is governed by federal law, DoD Instruction 1322.25, DoD Directive 1322.08E, and the cognizant Military Service's policies, regulations, and fiscal constraints.

(2) Postsecondary educational programs provided to Service members using TA on military installations outside of the United States, shall be operated in accordance with guidance from DoD Instruction 1322.25, DoD Instruction 1322.19, section 1212 of Public Law 99-145, as amended by section 518 of Public Law 101-189; and under the terms of the Tri-Services contract currently in effect.

f. This MOU is subject at all times to Federal law and the rules, guidelines, and regulations of DoD. Any conflicts between this MOU and such Federal law, rules, guidelines, and regulations will be resolved in favor of the Federal law, rules, guidelines, or regulations.

3. Educational Institution (Including Certificate and Degree Granting Educational Institutions) Requirements for TA. Educational institutions must:

a. Sign and adhere to requirements of this MOU, including Service-specific addendums as appropriate, prior to being eligible to receive TA payments.

(1) Those educational institutions that have a current MOU with DoD will sign this MOU:

(a) At the expiration of their current MOU;

(b) In accordance with the provisions of paragraph 6.f.; or

(c) At the request of DoD or the specific Military Service holding a separate current MOU. The DoD Voluntary Education Partnership MOU (which includes the Service-specific addendums) is required for an institution to participate in the DoD TA Program. An “installation MOU” (which is separate from this MOU) is only required if an institution is operating on a military installation. The installation MOU:

1. Contains the installation-unique requirements that the installation's education advisor coordinated, documented, and retained; is approved by the appropriate Service voluntary education representative; and is presented to the installation commander for final approval.

2. Cannot conflict with the DoD Voluntary Education Partnership MOU and governing regulations.

(2) Educational institutions must comply with this MOU and the requirements in Service-specific addendums that do not conflict with governing Federal law and rules, guidelines, and regulations, which include, but are not limited to, Title 10 of the U.S. Code; DoD Directive 1322.08E, “Voluntary Education Programs for Military Personnel”; DoD Instruction 1322.25, “Voluntary Education Programs”; DoD Instruction 1322.9, “Voluntary Education Programs for Military Personnel-Management Information System”; DoD Instruction 1322.19, “Voluntary Education Programs in Overseas Areas”; and all installation requirements imposed by the installation commander, if the educational institution has been approved to operate on a particular base. Educational institutions failing to comply with the requirements set forth in this MOU may receive a letter of warning, be denied the opportunity to establish new programs, have their MOU terminated, be removed from the installation, and may have the approval of the issuance of TA withdrawn by the Service concerned.

b. Be accredited by a national or regional accrediting agency recognized by the U.S. Department of Education.

c. Comply with the regulatory guidance provided by DoD and the Services.

d. Participate in the Military Voluntary Education Review (MVER) process when requested. This requirement applies not only to institutions providing courses on military installations, but also to those institutions that provide postsecondary instruction that is not located on the military installation or via DL.

e. If the institution is a member of the Servicemembers Opportunity Colleges (SOC), the institution shall:

(1) Adhere to the SOC Consortium Principles, Criteria, and Military Student Bill of Rights. (located at http://www.soc.aascu.org/socconsortium/PublicationsSOC.html).

(2) Provide processes to determine credit awards and learning acquired for specialized military training and occupational experience when applicable to a Service member's degree program.

(3) Recognize and use the American Council on Education (ACE) Guide to the Evaluation of Educational Experiences in the Armed Services to determine the value of learning acquired in military service. Award credit for appropriate learning acquired in military service at levels consistent with ACE Guide recommendations and/or those transcripted by the Community College of the Air Force, when applicable to a Service member's program.

f. If an institution elects not to be a member of SOC, the institution shall:

(1) Disclose its transfer credit policies prior to a Service member's enrollment.

(a) If the institution accepts transfer credit from other accredited institutions, then the institution agrees to evaluate these credits in conformity with the principles set forth in the Joint Statement on the Transfer and Award of Credit developed by members of the American Association of Collegiate Registrars and Admissions Officers, the American Council on Education, and the Council for Higher Education Accreditation. The institution will then award appropriate credit, to the extent practicable within the framework of its institutional mission and academic policies.

(b) Decisions about the amount of transfer credit accepted, and how it will be applied to the student's program, shall be left to the institution.

(2) Disclose its policies on how they award academic credit for prior learning experiences, including military training and experiential learning opportunities provided by the Military Services, at or before a Service member's enrollment.

(a) In so far as the institution's policies generally permit for the award of credit for comparable prior learning experiences, the institution agrees to evaluate the learning experiences documented on the Service member's official Service transcripts, and, if appropriate, award credit.

(b) The official Service transcripts for military training and experience documentation are: Army/ACE Registry Transcript System, the Sailor/Marine ACE Registry Transcript System, the Community College of the Air Force transcript, and the Coast Guard Institute transcript.

(c) If general policy permits, transfer credit may:

1. Replace a required course within the major;

2. Apply as an optional course within the major;

3. Apply as a general elective;

4. Apply as a basic degree requirement; or

5. Waive a prerequisite.

(d) Decisions about the amount of experiential learning credit awarded, and how it will be applied to the student's program, shall be left to the institution. Once an institution has evaluated a particular military training or experiential learning opportunity for a given program, the institution may rely on its prior evaluation to make future decisions about awarding credit to Service members with the same military training and experience documentation, provided that the course content has not changed.

(3) Disclose to Service members any academic residency requirements pertaining to the student's program of study, including total and any final year or final semester residency requirement at or before the time the student enrolls in the program.

(4) Disclose basic information about the institution's programs and costs, including tuition, fees, and other charges to the Service member. This information shall be made readily accessible without requiring the Service member to disclose any personal or contact information.

(5) Prior to enrollment, provide Service members access to an institutional financial aid advisor who will provide a clear and complete explanation of available financial aid, to include Title IV of the Higher Education Act of 1965, as amended, and appropriate loan counseling before offering, recommending, or signing up a student for a loan.

(6) Prior to enrollment, provide Service members with information on institutional “drop/add,” withdrawal, and readmission policies and procedures to include information on the potential impact of military duties (such as unanticipated deployments or mobilization, activation, and temporary duty assignments) on the student's academic standing and financial responsibilities. For example, a Service member's military duties may require relocation to an area where he or she is unable to maintain consistent computer connectivity with the institution, which could have implications for the Service member's enrollment status. This information will also include an explanation of the institution's grievance policy and process.

(7) Conduct academic screening and competency testing; make course placement based on student readiness.

(8) Designate a person or office at the institution that will serve as a point of contact for Service members seeking information about available, appropriate academic counseling, financial aid counseling, and student support services at the institution. The point of contact:

(a) Shall have a basic understanding of the military tuition assistance program and veterans' education benefits, and a familiarity with institutional services available to assist Service members.

(b) Does not need to be exclusively dedicated to providing these services and, as appropriate, may refer the Service member to other individuals, both on and off-campus, with an ability to provide these services.

g. Adopt an institutional policy banning inducements (including any gratuity, favor, discount, entertainment, hospitality, loan, transportation, lodging, meals, or other item having a monetary value of more than a de minimus amount) to any individual or entity (other than salaries paid to employees or fees paid to contractors in conformity with all applicable laws) for the purpose of securing enrollments of Service members or obtaining access to TA funds as part of efforts to eliminate aggressive marketing aimed at Service members.

h. Refrain from high-pressure recruitment tactics as part of efforts to eliminate aggressive marketing aimed at Service members. Such tactics include making multiple unsolicited phone calls to Service members for the purpose of securing their enrollment.

i. Refrain from providing any commission, bonus, or other incentive payment based directly or indirectly on securing enrollments or Federal financial aid (including TA funds) to any persons or entities engaged in any student recruiting, admission activities, or making decisions regarding the award of student financial assistance. These tactics as discouraged as part of efforts to eliminate aggressive marketing aimed at Service members.

4. TA Program Requirements for Educational Institutions.

a. One Single Tuition Rate. All Service members attending the same institution, at the same location, enrolled in the same course, will be charged the same tuition rate without regard to their Service component. This single tuition rate includes active duty Service members and the National Guard and Reservists who are activated under Title 10 and using Title 10 Military Tuition Assistance, in order to assure that tuition rate distinctions are not made based on the Service members' branches of Service.

(1) It is understood tuition rates may vary by mode of delivery (traditional or online), at the differing degree levels and programs, and residency designations (in-state or out-of-state). Tuition rates may also vary based on full-time or part-time status, daytime vs. evening classes, or matriculation date, such as in the case of a guaranteed tuition program.

(2) It is also understood that some States have mandated State rates for Guard and Reservists within the State. (Those Guard and Reservists not activated on title 10, U.S. Code orders).

b. Course Enrollment Information. The educational institutions will provide course enrollment, course withdrawal, course cancellation, course completion or failure, grade, verification of degree completion, and billing information to the TA issuing Service's education office, as outlined in the Service's regulations and instructions.

(1) Under section 1232g of title 20, United States Code (also known as “The Family Educational Rights and Privacy Act” and hereinafter referred to as “FERPA”), DoD recognizes that institutions are required to obtain consent before sharing personally identifiable non-directory information with a third party. Service members must authorize the institutions to release and forward course enrollment information required in 4.b. to DoD prior to approval of course enrollment using tuition assistance.

(2) If an institution wants to ensure confidentiality during the transmission of data to the third party, then the institution can contact the appropriate Service TA management point of contact to discuss security and confidentiality concerns prior to transmitting information.

c. Degree Requirements and Evaluated Education Plans.

(1) Institutions will disclose general degree requirements for the Service member's educational program (education plan) to the member and his or her Service. These requirements, typically articulated in the institution's course catalog, should:

(a) Include the total number of credits needed for graduation.

(b) Divide the coursework students must complete in accordance with institutional academic policies into general education, required, and elective courses.

(c) Articulate any additional departmental or graduate academic requirements, such as satisfying institutional and major field grade point average requirements, a passing grade in any comprehensive exams, or completion of a thesis or dissertation.

(2) In addition to providing degree requirements, the institution shall provide to Service members who have previous coursework from other accredited institutions and relevant military training and experiential learning an evaluated educational plan that indicates how many, if any, transfer credits it intends to award and how these will be applied toward the Service member's educational program. The evaluated educational plan will be provided within 60 days after the individual has selected a degree program and all required official transcripts have been received.

(3) When a Service member changes his or her educational goal or major at the attending school and the Services' education advisor approves the change, then the institution will provide a new evaluated educational plan to the Service member and the Service. Only courses listed in the Service member's education plan will be approved for TA.

(4) Degree requirements in effect at the time of each Service member's enrollment will remain in effect for a period of at least one year beyond the program's standard length, provided the Service member is in good academic standing and has been continuously enrolled or received an approved academic leave of absence. Adjustments to degree requirements may be made as a result of formal changes to academic policy pursuant to institutional or departmental determination, provided that:

(a) They go into effect at least two years after affected students have been notified; or

(b) In instances when courses or programs are no longer available or changes have been mandated by a State or accrediting body, the institution shall work with affected Service members to identify substitutions that would not hinder the student from graduating in a timely manner.

d. Approved and TA Eligible Courses.

(1) Approved Courses. If an eligible Service member decides to use TA, educational institutions will enroll him or her only after the TA is approved by the individual's Service. Service members will be solely responsible for all tuition costs without this prior approval. This requirement does not prohibit an educational institution from pre-registering a Service member in a course in order to secure a slot in the course. If a school enrolls the Service member before the appropriate Service approves Military TA, then the Service member could be responsible for the tuition. All Military TA must be requested and approved prior to the start date of the course. The Military TA is approved on a course-by-course basis and only for the specific course(s) and class dates that a Service member requests. If a military student “self-identifies” their eligibility and the Service has not approved the funding, then the Service member will be solely responsible for all tuition costs, not the Service.

(2) TA Eligible Courses. Courses shall be considered eligible for TA if they are:

(a) Part of an individual's evaluated educational plan; or

(b) Prerequisites for courses within the individual's evaluated educational plan; or

(c) Required for acceptance into a higher-level degree program, unless otherwise specified by Service regulations.

e. Use of Financial Aid with TA.

(1) “Top-Up” eligible active duty DoD personnel may use this Montgomery or Post-9/11 G.I. Bill benefit in conjunction with TA funds from their Service to cover those course costs to the Service member that exceed the amount of TA paid by his or her Service. Reserve Component members who have paid for Chapter 30 G.I. Bill benefits may use those benefits concurrently with TA. Reserve Component members who have earned entitlement for the Post-9/11 G.I., Bill may combine VA benefits and TA as long as the combined benefits do not total more than 100 percent of the actual costs of tuition and fees.

(2) DoD personnel are entitled to consideration for all forms of financial aid that educational institutions make available to students at their home campus. Educational institution financial aid officers shall provide information and application processes for scholarships, fellowships, grants, loans, etc., to DoD TA recipients.

(3) Service members identified as eligible DoD TA recipients, who qualify for Pell Grants through the Department of Education's student aid program, shall have their TA benefits applied to their educational institution's account prior to the application of their Pell Grant funds to their account. Unlike TA funds, which are tuition-restricted, Pell Grant funds are not tuition-restricted and may be applied to other allowable charges on the account.

f. Administration of Tuition and Fees.

(1) The Services will provide TA in accordance with DoD- and Service-appropriate regulations. Any additional fees will be paid by the Service member to the institution at the time of registration in accordance with the institution's policy.

(2) TA will be limited to tuition and reimbursable fees that are specifically required as a condition of enrollment in a particular course or term of enrollment of the Service member in that educational institution, are charged to all students and are refundable to the same extent as tuition in accordance with the institution's tuition refund policy. At a minimum, tuition and fees must be 100 percent refundable up until the start of the course.

(3) Tuition charged to a Service member will in no case exceed the rate charged to nonmilitary students, unless agreed upon in writing by both the institution and the Service.

(4) Institutions shall provide their tuition and fee charges for each degree program to the Services on an annual basis. Any changes in the tuition and fee charges will be provided to and justified to all the Services, as soon as possible, but not fewer than 90 days prior to implementation. If the MOU is with a single educational institution, at a single location, with only one Service, the justification will be provided to that Service, which will then provide that information to the other Services.

(a) Tuition and fees at many public institutions are established by entities over which they have no jurisdiction, such as State legislatures and boards. As such, in some instances tuition and fees decisions will not be made within the 90-day requirement window.

(b) When this happens, the institution should request a waiver (via the DoD MOU Web page) and provide the Services with the new tuition and fee charges. This will ensure the correct rates are applied when a Service member requests tuition and fees to attend the State institution.

(5) Refunds of Government-funded TA will be paid in accordance with the institution's published refund policy and will go to the Service, not to the Service member.

(6) The institution will refund to the Service the total amount of tuition and fees paid for a course that is cancelled by the institution.

(7) TA invoicing information is located in the Service-specific addendums attached to this MOU.

g. Course Cancellations. Institutions are responsible for notifying Service members of class cancellations for both classroom and DL courses.

h. Materials and Electronic Accessibility.

(1) Institutions will ensure that course materials are readily available, either electronically or in print medium, and provide information about where the student may obtain class materials at the time of enrollment or registration.

(2) Institutional representatives shall refrain from encouraging or requiring students to purchase course materials prior to confirmation of sufficient enrollments to conduct the class. Students will be encouraged to verify course acceptance by CCAF (Air Force only) or other program(s), with the installation education advisor before enrolling or requesting TA.

(3) Institutions will provide, where available, electronic access to their main administrative and academic center's library materials, professional services, relevant periodicals, books, and other academic reference and research resources in print or online format that are appropriate or necessary to support the courses offered. Additionally, institutions will ensure adequate print and non-print media resources to support all courses being offered are available at base or installation library facilities, on-site Institution resource areas, or via electronic transmission.

i. Graduation Achievement Recognition.

(1) The educational institution shall issue, at no cost to the Government, documentation as proof of completion, such as a diploma or certificate, to each student who completes the respective program requirements and meets all financial obligations.

(2) In accordance with Service requirements, the institution shall provide the Service concerned with a list of those TA recipients who have completed a certificate, diploma, or degree program. The list will include the degree level, major, and program requirements completion date.

(3) The academic credentials for certificate, diploma, or degree completion should reflect the degree-granting institution and campus authorized to confer the degree.

(a) If the Service member attends a branch of a large, multi-branch university system, the diploma may indicate the credential of the specific campus or branch of the institution from which the student received his or her degree.

(b) Credentials should be awarded to Service members with the same institutional designation as non-Service members who completed the same course work for a degree from the same institution.

(4) The institution shall provide students with the opportunity to participate in a graduation ceremony.

j. Reporting Requirements and Performance Metrics.

(1) The institution shall provide reports via electronic delivery on all DoD TA recipients for programs and courses offered to personnel as required by the cognizant Service. This includes, but is not limited to, TA transactions, final course grades to include incompletes and withdrawals, degrees awarded, certificates earned, evaluated educational plans, courses offered, class rosters of Service members, and military graduation.

(a) All reporting and transmitting of this information shall be done in conformity with all applicable privacy laws, including FERPA.

(b) Institutions shall respond to these requests in a timely fashion, which will vary based on the specific nature and scope of the information requested.

(2) The cognizant Service may evaluate the institution's overall effectiveness in administering its academic program, courses, and customer satisfaction to DoD. A written report of the findings will be provided to the institution. The institution shall have 90 calendar days to review the report, investigate if required, and provide a written response to the findings.

(3) The Services may request reports from an institution at any time, but not later than 2 years after termination of the MOU with such institution. Responses to all requests for reports shall be provided within a reasonable period of time, and generally within 14 calendar days. Institutional response time will depend on the specific information sought by the Services in the report.

5. Requirements and Responsibilities for the Delivery of On-Installation Voluntary Education Programs and Services.

a. The requirements in this section pertain to institutions operating on a military installation. An installation MOU:

(1) Is required if an institution is operating on a military installation.

(2) Contains only the installation-unique requirements coordinated, documented, and retained by the installation's education advisor, with concurrence from the appropriate Service voluntary education representative, and presented to the installation commander for final approval.

(3) Cannot conflict with the DoD Voluntary Education Partnership MOU and governing regulations.

b. Educational institutions shall:

(1) Agree to have a separate installation MOU if they have a Service agreement to provide on-installation courses or degree programs. The installation MOU contains the installation-unique requirements that will be coordinated, documented, and retained by the installation's education advisor, with concurrence from the appropriate Service voluntary education representative, and presented to the installation commander for final approval.

(2) Comply with the installation-unique requirements in the installation MOU that do not conflict with the DoD Voluntary Education Partnership MOU and governing regulations.

(3) Agree to coordinate degree programs offered on the installation with the installation's education advisor, who will receive approval from the installation commander, prior to the opening of classes for registration.

(4) Admit candidates to the institution's on-installation programs at their discretion; however, priority for registration in installation classes will be given in the following order:

(a) Service members.

(b) Federally funded DoD civilian employees.

(c) Eligible adult family members of Service members and DoD civilian employees.

(d) Military retirees.

(e) Non-DoD personnel.

(5) Provide the installation's education advisor, as appropriate, a tentative annual schedule of course offerings to ensure that the educational needs of the military population on the installation are met and to ensure no course or scheduling conflicts with other on-installation programs.

(6) Provide instructors for their installation courses who meet the criteria established by the institution to qualify for employment as a faculty member on the main administrative and academic center.

(7) Inform the installation education advisor about cancellations for classroom-based classes on military installations per the guidelines set forth in the separate installation MOU.

c. The Services' designated installation representative (usually the installation education advisor), shall be responsible for determining the local voluntary education program needs for the serviced military population and for selecting the off-duty educational programs to be provided on the installation, in accordance with the Services' policies. The Service, in conjunction with the educational institution, shall provide support services essential to operating effective educational programs. All services provided will be commensurate with the availability of resources (personnel, funds, and equipment). This support includes:

(1) Classroom and office space, as available. The Service will determine the adequacy of provided space.

(2) Repairs as required to maintain office and classroom space in “good condition” as determined by the Service, and utility services for the offices and classrooms of the institution located on the installation (e.g., electricity, water, and heat).

(3) Standard office and classroom furnishings within available resources. No specialized equipment will be provided.

(4) Janitorial services in accordance with installation facility management policies and contracts.

d. The Service reserves the right to disapprove installation access to any employee of the institution employed to carry out any part of this MOU.

e. Operation of a privately owned vehicle by institution employees on the installation will be governed by the installation's policies.

f. The installation education advisor will check with his or her Service's responsible office for voluntary education prior to allowing an educational institution to enter into an MOU with the installation.

6. Review, Modifications, Signatures, Effective Date, Expiration Date, and Cancellation Provision.

a. Review. The signatories (or their successors) will review this MOU periodically in coordination with the Services, but no less than every five years to consider items such as current accreditation status, updated program offerings, and program delivery services.

b. Modifications. Modifications to this MOU will be in writing and, except for those required due to a change in State or Federal law, shall be subject to approval by both of the signatories below, or their successors.

c. Signatures. The authorized signatory for DoD shall be designated by the USD(P&R). The authorized signatory for the institution will be determined by the institution.

d. Effective Date. This MOU is effective on the date of the later signature.

e. Expiration Date. This MOU will expire five years from the effective date, unless terminated or updated prior to that date in writing by DoD or the Institution.

f. Cancellation Provision. This MOU may be cancelled by either DoD or the Institution 30 days after receipt of the written notice from the cancelling party,

FOR THE DEPARTMENT OF DEFENSE:

DESIGNATED SIGNATORY

DATE

FOR THE INSTITUTION:

PRESIDENT or Designee

DATE

Appendix B to Part 68—Addendum for Education Services Between [Name of Educational Institution] and the U.S. Air Force

1. Purpose. This addendum is between (Name of Educational Institution), hereafter referred to as the “Institution,” and the United States Air Force (USAF). The purpose of this agreement is to provide guidelines and procedures for the delivery of educational services to Service members, DoD civilian employees, eligible adult family members, military retirees, and non-DoD personnel not covered in the DoD Voluntary Education Partnership Memorandum of Understanding (MOU) between the DoD Office of the Under Secretary of Defense for Personnel and Readiness and the Institution. This addendum is not to be construed in any way as giving rise to a contractual obligation of the USAF to provide funds to the Institution that would be contrary to Federal law.

2. Responsibilities.

a. USAF Education and Training Section (ETS) Chief. The USAF ETS Chief shall:

(1) Maintain a continuing liaison with the designated Institution representative and be responsible for inspections and the acceptance of the Institution's services. The ETS Chief will assist the Institution representative to provide military and USAF culture orientation to the Institution personnel.

(2) Review requests from Institutions with no on-installation MOU for permission of installation access and space within the ETS to counsel current students, provide information briefings and materials, attend education fairs, and provide other informational services approved by the installation commander. Approval depends on the installation commander. Approval of any school eligible for Military TA will be extended equally to all such schools; same time allotment, space, and frequency.

(3) Assist the Institution or refer them to the information technology contractor for training in the use of the Academic Institution Portal (AI Portal) regarding input of Institution information, degree offerings, tuition rates, grades, invoices, degree completions, and search tools pre-built into the USAF online Voluntary Education System.

b. Institutions shall:

(1) Appoint and designate an Institution representative to maintain a continuing liaison with the USAF ETS Chief.

(2) Provide general degree requirements to each airman for his or her education program and the ETS as soon as he or she decides to register with the Institution and while awaiting final evaluation of transfer credits.

(3) Assume responsibility for the administration and proctoring of all course examinations not normally administered and proctored within the traditional, in-the-classroom setting.

(4) Provide to airmen, upon their request, information on Institution policies including, but not limited to, course withdrawal dates and penalties, course cancellation procedures, course grade publication, fees (covered by military tuition assistance (Mil TA) and not covered by Mil TA), billing practices, and policy regarding incompletion of a course. Face-to-face counseling is not required.

(5) Register and use the AI Portal to input Institution basic information, degree offerings, tuition rates, invoice submission, course grades submission, degree completions, and to pull pre-established educational institution reports while conducting business with the USAF.

(6) Submit one consolidated invoice per term via the AI Portal for each class in which active duty military airmen are enrolled using Mil TA. Submission will be made during the term, no earlier than after the final add/drop/census date, and no later than 30 calendar days after the end of the term.

(7) Submit course grades via the AI Portal for each class in which active duty military airmen are enrolled using Mil TA. Submission will be made no later than 30 calendar days after the end of the term.

(8) Accept the Government Purchase Card (GPC) for payment of Mil TA when the Institution accepts credit cards for any part of Institution business. If an institution does not accept credit cards:

(a) The Air Force may grant the institution a waiver from these requirements for any tuition and fee payments for the program in which the active duty military airman is enrolled.

(b) The Air Force and the institution must negotiate the terms of the waiver, which are incorporated by reference into the terms of the MOU.

(c) The institution should be aware that payment could be delayed because the Air Force currently has an automatic payment system for credit card use. If a waiver is granted, the Air Force must use a paper-based system.

(9) Provide a list of program graduates via the AI Portal consisting of student name, program title, program type (such as bachelor's degree), and date of graduation no later than 30 calendar days after the end of the term in which graduation requirements are completed. If the AI Portal is not available, provide directly to the base Education and Training Section.

c. Institutions with no on-installation MOU are authorized to request permission for installation access and space within the ETS to counsel current students, provide information briefings and materials, attend education fairs, and other informational services. Approval depends on the installation commander. If approval is granted, then all other permissions will be authorized equally for any school eligible for Military TA; the same time allotment, space, and frequency.

d. All Institutions with an on-installation MOU or invitation for an on-installation activity, such as an educational fair, are authorized to counsel or provide information on any of their programs.

3. Additional Guidelines

a. In addition to DoD policy outlined in the DoD MOU, the authorization of Mil TA is further governed by Air Force Instruction (AFI) 36-2306, as well as applicable policy and guidance.

b. Installation access of non-DoD and non-installation personnel is at the discretion of the installation commander. Access once provided can be revoked at any time due to military necessity or due to conduct that violates installation rules or policies.

c. No off-base school will be given permanent space or scheduled for regularly recurring time on-base for student counseling.

Appendix C to Part 68—Addendum for Education Services Between [Name of Educational Institution] and the U.S. Army

1. Purpose. This addendum is between (Name of Educational Institution), hereafter referred to as the “Institution,” and the United States Army. The purpose of this agreement is to provide guidelines and procedures for the delivery of educational services to Service members, DoD civilian employees, eligible adult family members, military retirees, and non-DoD personnel not covered in the DoD Voluntary Education Partnership Memorandum of Understanding between the DoD Office of the Under Secretary of Defense for Personnel and Readiness and the Institution. This addendum is not to be construed in any way as giving rise to a contractual obligation of the U.S. Army to provide funds to the Institution that would be contrary to Federal law.

2. Responsibilities.

a. Army Education Services Officer (ESO): In support of this addendum, the Army ESO shall maintain a continuing liaison with a designated Institution representative and be responsible for inspections and the acceptance of the Institution's services. The ESO will provide assistance to the Institution representative to provide military and Army culture orientation to the Institution personnel.

b. Institutions. The Institution will:

(1) Appoint and designate an Institution representative to maintain a continuing liaison with the Army ESO.

(2) Adopt the GoArmyEd processes. GoArmyEd is the Army Continuing Education System (ACES) centralized and streamlined management system for the Army's postsecondary voluntary education programs. Existing MOUs or Memorandums of Agreement, Tri-Services contracts, or other contracts that Institutions may have with military installations and ACES remain in place and should be supplemented with DoD Instruction 1322.25.

(3) Agree to all of the terms in the ACES policies and procedures, available at https://www.hrc.army.mil/site/education/GoArmyEd_School_Instructions.html, such as: Invoicing, grades, reports, library references, etc. For non-Letter of Instruction (LOI) institutions satisfying paragraph 3.f. of this DoD MOU, any requirements in ACES policies and procedures requiring institutions to be a member of SOC are hereby waived.

(4) Institutions currently participating with GoArmyEd as LOI and non-LOI schools, may continue to do so at the discretion of Headquarters, ACES. Non-LOI schools will be subject to the requirements of paragraphs 2.b.(2) and 2.b.(3) of this DoD MOU only to the extent that their existing non-LOI agreement with the U.S. Army provides.

Appendix D to Part 68—Addendum for Education Services Between [Name of Educational Institution] and the U.S. Marine Corps

1. Purpose. This addendum is between (Name of Educational Institution), hereafter referred to as the “Institution,” and the U.S. Marine Corps. The purpose of this agreement is to provide guidelines and procedures for the delivery of educational services to Service members, DoD civilian employees, eligible adult family members, military retirees, and non-DoD personnel not covered in the DoD Voluntary Education Partnership Memorandum of Understanding between the DoD Office of the Under Secretary of Defense for Personnel and Readiness and the Institution. This addendum is not to be construed in any way as giving rise to a contractual obligation of the U.S. Marine Corps to provide funds to the Institution that would be contrary to Federal law.

2. Responsibilities.

a. Marine Corps Education Services Officer (ESO): In support of this addendum, the Marine Corps ESO shall maintain a continuing liaison with a designated Institution representative and be responsible for inspections and the acceptance of the Institution's services. The ESO will provide assistance to the Institution representative to provide military and Marine Corps culture orientation to the Institution personnel.

b. Institution. The Institution will:

(1) Appoint and designate an Institution representative to maintain a continuing liaison with the Marine Corps ESO.

(2) Provide open enrollment during a designated time periods in courses conducted through media (e.g., portable media devices or computer-aided). Those courses shall be on an individual enrollment basis.

(3) When operating on a Marine base, provide all required equipment when the Institution provides instruction via media.

(4) When operating on a Marine base, provide library services to the Marine Corps base/installation for students in the form of research and reference materials (e.g., books, pamphlets, magazines) of similar quality to the support provided students on the institution's home campus. Services shall also include research and reference material in sufficient quantity to meet curriculum and program demands. Materials shall be, at a minimum, the required readings of the instructor(s) for a particular course or program, or the ability for the student to request a copy of such material, from the institution's main library, without any inconvenience or charge to the student (e.g., a library computer terminal that may allow students to order material and have it mailed to their residence).

(5) Route publicity generated for an installation community through the base ESO.

(6) Permit employment of off-duty military personnel or Government civilian employees by the institution, provided such employment does not conflict with the policies set forth in DoD Regulation 5500.7-R. However, Government personnel employed in any way in the administration of this addendum will be excluded from such employment because of conflict of interest.

3. Billing Procedures, And Formal Grades.

a. Comply with wide area work flow process for invoicing tuition assistance.

b. Grades shall be submitted through the Navy College Management Information System grade entry application.

c. Grade reports shall be provided to the Naval Education and Training Professional Development and Technology Center within 30 days of term ending or completion of the course, whichever is earlier.

Appendix E to Part 68—Addendum for Education Services Between [Name of Educational Institution] and the U.S. Navy

1. Purpose. This addendum is between (Name of Educational Institution), hereafter referred to as the “Institution,” and the U.S. Navy. The purpose of this agreement is to provide guidelines and procedures for the delivery of educational services to Service members, DoD civilian employees, eligible adult family members, military retirees, and non-DoD personnel not covered in the DoD Voluntary Education Partnership Memorandum of Understanding (MOU) between the DoD Office of the Under Secretary of Defense for Personnel and Readiness and the Institution. This addendum is not to be construed in any way as giving rise to a contractual obligation of the Department of the Navy to provide funds to the academic Institution that would be contrary to Federal law.

2. Responsibilities.

a. Commanding Officer responsible for execution of the Voluntary Education Program. The commanding officer responsible for execution of the voluntary education program shall:

(1) Determine the local voluntary education program needs for the Navy population to be served and recommend to the installation commander the educational programs to be offered on the base;

(2) Administer this agreement and provide program management support;

(3) Manage the Navy College Program Distance Learning Partnership (NCPDLP) agreements.

b. Navy College Office (NCO): In support of this addendum, the NCO will maintain a continuing liaison with the designated Institution representative and be responsible for inspections and the acceptance of the Institution's services. The NCO will provide assistance to the Institution representative to provide military and Navy culture orientation to the Institution personnel.

c. Institution. The Institution will:

(1) If a distance learning partner institution:

(i) Comply with NCPDLP agreements, if an institution participates in NCPDLP.

(ii) Provide a link to the academic institution through the Navy College Program Web Site, only if designated as an NCPDLP school.

(iii) Display the academic Institution's advertising materials (i.e., pamphlets, posters, and brochures) at all NCOs, only if designated as an NCPDLP school.

(2) Appoint and designate an Institution representative to maintain a continuing liaison with the NCO staff.

(3) Comply with wide area work flow processes for invoicing of tuition assistance. Grades will be submitted to the Navy College Management Information System grade entry application.

(4) Ensure library resource arrangements are in accordance with the standards of the Institution's accrediting association and the State regulatory agency having jurisdiction over the academic Institution.

(5) Respond to email messages from students within a reasonable period of time—generally within two workdays, unless extenuating circumstances would justify additional time.

(6) Comply with host command procedures before starting instructor-based courses on any Navy installation. The NCO shall negotiate a separate agreement with the academic Institution in concert with the host command procedures.

(7) Mail an official transcript indicating degree completion, at no cost to the sailor or the Government to: Center for Personal and Professional Development, ATTN: Virtual Education Center, 1905 Regulus Ave., Suite 234, Virginia Beach, VA 23461-2009.

Dated: November 29, 2012.
Aaron Siegel,
Alternate OSD Federal Register Liaison Officer, Department of Defense.

[FR Doc. 2012-29497 Filed 12-6-12; 8:45 am]

BILLING CODE 5001-06-P